DEPARTMENT OF TRANSPORTATION

Federal Aviation Administration

14 CFR Part 71

[Docket No. FAA-2007-28601; Airspace Docket No. 07-AEA-02]

Establishment of Class D and E Airspace, Revision of Class E Airspace; Easton, MD

AGENCY: Federal Aviation Administration (FAA), DOT.

ACTION: Final rule.

SUMMARY: This action establishes Class D, E2 and E4 airspace at Easton, MD to provide adequate airspace that will support the new Air Traffic Control Tower constructed at Easton Airport/Newnam Field. Increased safety and airspace management is enhanced through this rule by providing controlled airspace for Instrument Approaches and Instrument and Visual Flight Rule operations. This action also amends Class E5 airspace at Easton, MD by imparting a technical correction to the airport's name.

DATES: Effective 0901 UTC, February 14, 2008. The Director of the Federal Register approves this incorporation by reference action under title 1, Code of Federal Regulations, part 51, subject to the annual revision of FAA Order 7400.9 and publication of conforming amendments.

FOR FURTHER INFORMATION CONTACT: Daryl Daniels, Air Traffic Control Specialist, System Support Group, Eastern Service Center, Federal Aviation Administration, P.O. Box 20636, Atlanta, Georgia 30320; telephone (404) 305-5581.

SUPPLEMENTARY INFORMATION:

History

On September 6, 2007, the FAA published in the Federal Register an NPRM to establish Class D, E2, and E4 airspace and amend Class E5 airspace at Easton, MD (72 FR 51203). Due to the volume and mix of aircraft operating at the airport, an Air Traffic Control Tower has been built with weather reporting capabilities at Easton Airport/Newnam Field which meets the criteria for Class D and E4 surface area airspace. Class D surface area airspace and Class E4 airspace designated as an extension to Class D surface airspace is required when the control tower is open to contain Standard Instrument Approach Procedures (SIAPs) and other Instrument Flight Rules (IFR) operations at the airport. Additionally, the Potomac Tracon receives the weather information and has the ability to communicate with aircraft on the ground at the airport, thus meeting the criteria for Class E2 airspace. Class E2 surface area airspace is required for safety reasons when the control tower is closed to contain SIAPs and other IFR operations at the airport. This action establishes that airspace.

On May 25, 1993, the County Council of Talbot County voted to officially change the name of the Easton Municipal Airport to Easton Airport/Newnam Field honoring Mr. William S.D. Newnam, having served the county and the airport for forty years. That change was never completely forwarded to the proper authorities. This action corrects that oversight.

Interested parties were invited to participate in this rulemaking proceeding by submitting written comments on the proposal to the FAA. No comments objecting to the proposal were received.

The Rule

This amendment to Title 14, Code of Federal Regulations (14 CFR) part 71 establishes Class D Airspace extending upwards from the surface to and including 2,600 feet MSL within a 4.0-mile radius of the airport, Class E4 Airspace extension to Class D that is 5.4 miles wide and extends 7.4 miles northeast of the Easton Non Directional Beacon (NDB) and Class E2 airspace whose dimensions include both. This amendment also revises Class E5 Airspace to correctly identify the airports' name as Easton Airport/Newnam Field at Easton, MD.

Class D and E2 Airspace Designations for Airspace Areas extending upward from the surface of the Earth, Class E4 Airspace Areas Designated as an Extension to a Class D Surface Area and Class E5 Airspace Areas extending upward from 700 feet or more above the surface of the Earth are published in Paragraphs 5000, 6002, 6004 and 6005 respectively of FAA Order 7400.9R, signed August 15, 2007, and effective September 15, 2007, which is incorporated by reference in 14 CFR 71.1. The Class D and E Airspae designations listed in this document will be published subsequently in the Order.

The regulations adopted herein will not have substantial direct effects on the States, on the relationship between the national government and the States, or on the distribution of power and responsibilities among various levels of government. Therefore, it is determined that this final rule does not have federalism implications under Executive Order 13132.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, part A, Subpart I, Section 40103. Under that section, the FAA is charged with prescribing regulations to assign the use of airspace necessary to ensure the safety of aircraft and the efficient use of airspace. This regulation is within the scope of that authority as it establishes controlled airspace at the Easton Airport/Newnam Field, Easton, MD.

Lists of Subjects in 14 CFR Part 71

Airspace, Incorporation by reference, Navigation (Air).

Adoption of the Amendment:

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9R, Airspace Designations and Reporting Points, signed August 15, 2007, effective September 15, 2007, is amended as follows:

Paragraph 5000 Class D Airspace.

* * * * *

AEA MD D Easton, MD [NEW]

Easton Airport/Newnam Field, MD

(Lat. 38°48′15″ N., long. 76°04′08″ W.)

That airspace extending upward from the surface to and including 2,600 feet MSL within a 4.0-mile radius of the Easton Airport/Newnam Field. This Class D airspace area is effective during the specific days and times established in advance by a Notice to Airmen. The effective days and times will thereafter be continuously published in the Airport/Facility Directory.

* * * * *

Paragraph 6002 Class E Airspace Designated as Surface Areas.

* * * * *

AEA MD E2 Easton, MD [NEW]

Easton Airport/Newnam Field, MD

(Lat. 38°48′15″ N., long. 76°04′08″ W.)

Easton NDB

(Lat. 38°48′17″ N., long. 76°04′10″ W.)

That airspace extending upward from the surface to and including 2,600 feet MSL within a 4.0-mile radius of the Easton Airport/Newnam Field and that airspace within 2.7 miles each side of the 038° bearing from the Easton NDB extending from the 4.0 mile radius of the Easton Airport/Newnam Field to 7.4 miles northeast of the NDB. This Class E airspace area is effective during the specific days and times established in advance by a Notice to Airmen. The effective days and times will thereafter be continuously published in the Airport/Facility Directory.

* * * * *

Paragraph 6004 Class E Airspace Areas Designated as an Extension to a Class D Surface Area.

* * * * *

AEA MD E4 Easton, MD [NEW]

Easton Airport/Newnam Field, MD

(Lat. 38°48′15″ N., long. 76°04′08″ W.)

Easton NDB

(Lat. 38°48′17″ N., long. 76°04′10″ W.)

That airspace extending upward from the surface within 2.7 miles each side of the 038° bearing from the Easton NDB extending from the 4.0-mile radius of the Easton Airport/Newnam Field to 7.4 miles northeast of the NDB. This Class E airspace area is effective during the specific days and times established in advance by a Notice to Airmen. The effective days and times will thereafter be continuously published in the Airport/Facility Directory.

* * * * *

Paragraph 6005 Class E Airspace Areas Extending Upward From 700 Feet or More Above the Surface of the Earth.

* * * * *

AEA MD E5 Easton, MD [REVISED]

Easton Airport/Newnam Field, MD

(Lat. 38°48′15″ N., long. 76°04′08″ W.)

Easton NDB

(Lat. 38°48′17″ N., long. 76°04′10″ W.)

That airspace extending upward from 700 feet above the surface of the Earth within a 6.7-mile radius of the Easton Airport/Newnam Field and within 2.7 miles each side of the 038° bearing from the Easton NDB extending from the 6.7-mile radius to 7.4 miles northeast of the NDB.

* * * * *

Issued in College Park, Georgia, on November 15, 2007.
Barry A. Knight,
Acting Manager, System Support Group, Eastern Service Center.

[FR Doc. 07-6019 Filed 12-12-07; 8:45 am]

BILLING CODE 4910-13-M